ENVIRONMENTAL PROTECTION AGENCY

[ER-FRL-9002-2]

Environmental Impacts Statements; Notice of Availability

Responsible Agency: Office of Federal Activities, General Information (202) 564-7146 or http://www.epa.gov/compliance/nepa/.

Weekly Receipt of Environmental Impact Statements

Filed 03/12/2012 Through 03/16/2012

Pursuant to 40 CFR 1506.9.

Notice

Section 309(a) of the Clean Air Act requires that EPA make public its comments on EISs issued by other Federal agencies. EPA's comment letters on EISs are available at: http://www.epa.gov/compliance/nepa/eisdata.html.

EIS No. 20120069, Final Supplement, USFS, ID, Lakeview-Reeder Fuels Reduction Project, Proposed Fuels Reduction and Road Treatment Activities, Updated and New Information, Idaho Panhandle National Forests, Priest Lake Ranger District, Bonner County, ID, Review Period Ends: 04/23/2012, Contact: A.J. Helgenberg 208-265-6643.

EIS No. 20120070, Draft EIS, FHWA, ME, I-395/Route 9 Transportation System, To Improve Transportation System Linkage, Safety, and Mobility, USACE 404 Permit Application, Penobscot and Hancock Counties, ME, Comment Period Ends: 05/15/2012, Contact: Mark Hasselmann 207-622-8350.

EIS No. 20120071, Final EIS, NPS, MD, Hampton National Historic Site, General Management Plan, Implementation, Baltimore County, MD, Review Period Ends: 04/23/2012, Contact: Tina Orcutt 410-962-4290.

EIS No. 20120072, Final EIS, FTA, CA, Westside Subway Extension Transit Corridor Project, Extension of the Existing Metro Purple Line and Metro Red Line Heavy Rail Subway, Los Angeles County Metropolitan Transportation Authority, Los Angeles County, CA, Review Period Ends: 04/23/2012, Contact: Ray Tellis 213-202-3956.

EIS No. 20120073, Draft EIS, USACE, CA, Isabella Lake Dam Safety Modification Project, To Remediate Seismic, Seepage, and Hydrologic Deficiencies in the Main Dam, Spillway and Auxiliary Dam, Kern County, CA, Comment Period Ends: 05/07/2012, Contact: Tyler M. Stalker 916-557-5107.

EIS No. 20120074, Draft EIS, BLM, CA, Calnev Pipeline Expansion Project, Construction, Operation, and Maintenance of a 233-mile Pipeline from North Colton Terminal to Bracken Junction, USACE Section 404 Permit, San Bernardino County, CA, Comment Period Ends: 06/21/2012, Contact: Rich Rotte 760-252-6026.

EIS No. 20120075, Draft EIS, FHWA, IA, Eastern Hills Drive and Connecting Roadways Construction Project, To Improve Transportation Network East of Council Bluff, Funding, USACE Section 404 Permit, Pottawattamie County, IA, Comment Period Ends: 05/07/2012, Contact: Lubin Quinones 515-233-7300.

EIS No. 20120076, Draft EIS, USFS, WI, Park Falls Hardwoods Vegetation and Transportation Management Activities, Implementation, Chequamegon-Nicolet National Forest, Medford-Park Falls Ranger District, Price County, WI, Comment Period Ends: 05/07/2012, Contact: Jane Darnell 715-748-4875 ext. 38.

EIS No. 20120077, Final EIS, FERC, 00, New Jersey-New York Expansion Project, Propose to Modify and Expand Existing Natural Gas Transmission Pipeline Systems in New Jersey, New York, and Connecticut, Review Period Ends: 04/23/2012, Contact: Roberta Coulter 202-502-8584.

EIS No. 20120078, Second Draft Supplement, FHWA, TX, Trinity Parkway Project, Construction of a Six-Lane Controlled Access Toll Facility from IH-35 E/TX-183 to US-175/TX-310, Additional Information on the Compatibility with Levee Remediation Plans for the Dallas Floodway and New Information on Historic Resources, US Army COE Section 10 and 404 Permits, Dallas County, TX, Comment Period Ends: 05/07/2012, Contact: Salvador Deocampo 512-536-5950.

EIS No. 20120079, Final Supplement, USFS, MI, Huron-Manistee National Forests, Land and Resource Management Plan, Supplements the 2006 FEIS Analysis and to Correct the Deficiencies that the Meister Panel Identified, Implementation, Several Counties, MI, Review Period Ends: 04/23/2012, Contact: Kenneth Arbogast 231-775-2421.

Dated: March 20, 2012.
Aimee Hessert,
Deputy Director, NEPA Compliance Division, Office of Federal Activities.

[FR Doc. 2012-7031 Filed 3-22-12; 8:45 am]

BILLING CODE 6560-50-P